DEPARTMENT OF JUSTICE

Antitrust Division

Notice Pursuant to the National Cooperative Research and Production Act of 1993—Joint Development Under ATP Award No. 70NANB7H7007

Notice is hereby given that, on October 17, 2007, pursuant to Section 6(a) of the National Cooperative Research and Production Act of 1993, 15 U.S.C. 4301, et seq. (“the Act”), Joint Development under ATP Award No. 70NANB7H7007 has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Caterpillar Inc., Mossville, IL and The Lubrizol Corporation, Wickliffe, OH. The general area of Joint Development under ATP Award No. 70NANB7H7007's planned activity is to perform research in the field of integrated surface technologies for 21st century drive trains. The activity of this joint development project will be partially funded by an award from the Advanced Technology Program, National Institute of Standards and Technology, U.S. Department of Commerce.

Patricia A. Brink,
Deputy Director of Operations, Antitrust Division.

[FR Doc. 07-5997 Filed 12-7-07; 8:45 am]

BILLING CODE 4410-11-M